DEPARTMENT OF COMMERCE

National Oceanic and Atmospheric Administration

50 CFR Part 648

[Docket No. 010413094-1094-01; I.D. 080201C]

Magnuson-Stevens Fishery Conservation and Management Act Provisions; Fisheries of the Northeastern United States; Atlantic Deep-Sea Red Crab Fishery; Closure

AGENCY: National Marine Fisheries Service (NMFS), National Oceanic and Atmospheric Administration (NOAA), Commerce.

ACTION: Closure.

SUMMARY: NMFS announces that, effective 0001 hrs, local time, August 17, 2001, through 2400 hr, local time, November 14, 2001, vessels may not fish for, or possess, red crab harvested from the exclusive economic zone (EEZ) in excess of 100 lb (45.4 kg) per trip. This action is based on a determination that the red crab total allowable catch (TAC) is projected to be reached as of August 17, 2001, and is necessary to prevent the fishery from exceeding the TAC established by the emergency rule that was published May 8, 2001.

DATES: Effective 0001 hrs, local time, August 17, 2001, through 2400 hrs, local time, November 14, 2001.

FOR FURTHER INFORMATION CONTACT: E. Martin Jaffe, Fishery Policy Analyst, 978-281-9272, fax 978-281-9135, e-mail martin.jaffe@noaa.gov.

SUPPLEMENTARY INFORMATION: On May 8, 2001, NMFS published a red crab emergency interim rule (66 FR 23182) to address concerns that overfishing of the red crab resource may be occurring within the EEZ from Cape Hatteras Light, NC, northward to the U.S.-Canada border. This action contained measures that included a TAC of 2.5 million lb (1,134 mt) of red crab for the 180-day period of effectiveness for the rule. To help ensure that the TAC is not exceeded, this rule also contained regulations that require the closure of the directed red crab fishery as of the date NMFS determines that the total landings of red crab will reach or exceed the TAC. NMFS is required to publish notification of such closure in the Federal Register (50 CFR 648.264).

NMFS has determined, based on landings and other available information, that 100 percent of the TAC for red crab will be harvested by August 17, 2001. Therefore, effective 0001 hrs, local time, August 17, 2001, through 2400 hrs, local time, November 14, 2001, notwithstanding any other regulations of Subpart M of 50 CFR part 648, vessels may not fish for, or possess, red crab harvested from the EEZ in excess of 100 lb (45.4 kg) per trip. If NMFS decides to recommend a 180-day extension of the emergency rule to the Secretary of Commerce (Secretary), and the Secretary approves, a notification will be published in the Federal Register to inform the industry.

Classification

This action is required by 50 CFR part 648 and is exempt from review under Executive Order 12866.

Authority: 16 U.S.C. 1801 et seq.

Dated: August 3, 2001.
Bruce C. Morehead,
Acting Director, Office of Sustainable Fisheries, National Marine Fisheries Service.

[FR Doc. 01-19893 Filed 8-3-01; 2:59 pm]

BILLING CODE 3510-22-S